DEPARTMENT OF ENERGY

Federal Energy Regulatory Commission

Combined Notice of Filings #1

Take notice that the Commission received the following electric corporate filings:

Docket Numbers: EC21-76-000.

Applicants: Caledonia Generating, LLC.

Description: Application for Authorization Under Section 203 of the Federal Power Act of Caledonia Generating, LLC.

Filed Date: 4/12/21.

Accession Number: 20210412-5888.

Comments Due: 5 p.m. ET 5/3/21.

Docket Numbers: EC21-77-000.

Applicants: FirstEnergy Corp.

Description: Application for Authorization Under Section 203 of the Federal Power Act of FirstEnergy Corp., on behalf of the FirstEnergy Utility Affiliates.

Filed Date: 4/13/21.

Accession Number: 20210413-5131.

Comments Due: 5 p.m. ET 5/4/21.

Docket Numbers: EC21-78-000.

Applicants: BPC US Wind Corporation, High Prairie Wind Farm II, LLC, Old Trail Wind Farm, LLC, Telocaset Wind Power Partners, LLC, ASHUSA Inc.

Description: Application for Authorization Under Section 203 of the Federal Power Act of BPC US Wind Corporation, et al.

Filed Date: 4/13/21.

Accession Number: 20210413-5157.

Comments Due: 5 p.m. ET 5/4/21.

Take notice that the Commission received the following exempt wholesale generator filings:

Docket Numbers: EG21-123-000.

Applicants: Clines Corners Wind Farm LLC.

Description: Notice of Self-Certification of Exempt Wholesale Generator Status of Clines Corners Wind Farm LLC.

Filed Date: 4/14/21.

Accession Number: 20210414-5122.

Comments Due: 5 p.m. ET 5/5/21.

Docket Numbers: EG21-124-000.

Applicants: Duran Mesa LLC.

Description: Notice of Self-Certification of Exempt Wholesale Generator Status of Duran Mesa LLC.

Filed Date: 4/14/21.

Accession Number: 20210414-5126.

Comments Due: 5 p.m. ET 5/5/21.

Docket Numbers: EG21-125-000.

Applicants: Red Cloud Wind LLC.

Description: Notice of Self-Certification of Exempt Wholesale Generator Status of Red Cloud Wind LLC.

Filed Date: 4/14/21.

Accession Number: 20210414-5128.

Comments Due: 5 p.m. ET 5/5/21.

Docket Numbers: EG21-126-000.

Applicants: Tecolote Wind LLC.

Description: Notice of Self-Certification of Exempt Wholesale Generator Status of Tecolote Wind LLC.

Filed Date: 4/14/21.

Accession Number: 20210414-5133.

Comments Due: 5 p.m. ET 5/5/21.

Take notice that the Commission received the following electric rate filings:

Docket Numbers: ER10-2881-035; ER10-2882-036; ER10-2883-034; ER10-2884-034; ER16-2509-005; ER17-2400-006; ER17-2401-006; ER17-2403-006; ER17-2404-006.

Applicants: Alabama Power Company, Mississippi Power Company, Georgia Power Company, Rutherford Farm, LLC, SP Butler Solar, LLC, SP Decatur Parkway Solar, LLC, SP Pawpaw Solar, LLC, SP Sandhills Solar, LLC.

Description: Supplement to June 30, 2020 Updated Market Power Analysis for the Southeast Region of Alabama Power Company, et al.

Filed Date: 4/13/21.

Accession Number: 20210413-5335.

Comments Due: 5 p.m. ET 5/4/21.

Docket Numbers: ER20-686-002.

Applicants: Tri-State Generation and Transmission Association, Inc.

Description: Compliance filing: Tri-State Order No. 864 Compliance Filing to be effective 2/25/2020.

Filed Date: 4/14/21.

Accession Number: 20210414-5028.

Comments Due: 5 p.m. ET 5/5/21.

Docket Numbers: ER20-2040-001.

Applicants: Southwest Power Pool, Inc.

Description: Compliance filing: Deficiency Response in ER20-2040—Prairie Wind Order No. 864 Compliance Filing to be effective N/A.

Filed Date: 4/14/21.

Accession Number: 20210414-5044.

Comments Due: 5 p.m. ET 5/5/21.

Docket Numbers: ER20-2041-001.

Applicants: Southwest Power Pool, Inc.

Description: Compliance filing: Deficiency Response in ER20-2041—KCPL Order No. 864 Compliance Filing to be effective N/A.

Filed Date: 4/14/21.

Accession Number: 20210414-5039.

Comments Due: 5 p.m. ET 5/5/21.

Docket Numbers: ER20-2042-001.

Applicants: Southwest Power Pool, Inc.

Description: Compliance filing: Deficiency Response in ER20-2042—KCPL-GMO Order No. 864 Compliance Filing to be effective N/A.

Filed Date: 4/14/21.

Accession Number: 20210414-5042.

Comments Due: 5 p.m. ET 5/5/21.

Docket Numbers: ER20-2044-001.

Applicants: Southwest Power Pool, Inc.

Description: Compliance filing: Deficiency Response in ER20-2044—Westar Energy Order No. 864 Compliance Filing to be effective N/A.

Filed Date: 4/14/21.

Accession Number: 20210414-5043.

Comments Due: 5 p.m. ET 5/5/21.

Docket Numbers: ER21-461-002.

Applicants: El Paso Electric Company.

Description: Tariff Amendment: Service Agreement No. 346, EPE- La Mesa PV I LLC SGIA As Amended to be effective 4/9/2021.

Filed Date: 4/14/21.

Accession Number: 20210414-5163.

Comments Due: 5 p.m. ET 5/5/21.

Docket Numbers: ER21-1674-000.

Applicants: TBE Montgomery, LLC.

Description: Petition for Limited Waiver, et. al. of TBE Montgomery, LLC.

Filed Date: 4/9/21.

Accession Number: 20210409-5383.

Comments Due: 5 p.m. ET 4/23/21.

Docket Numbers: ER21-1675-000.

Applicants: Midcontinent Independent System Operator, Inc.

Description: § 205(d) Rate Filing: 2021-04-14_SA 3445 MEC-Plymouth Wind Energy 1st Rev GIA (J748) to be effective 3/26/2021.

Filed Date: 4/14/21.

Accession Number: 20210414-5029.

Comments Due: 5 p.m. ET 5/5/21.

Docket Numbers: ER21-1676-000.

Applicants: Southwest Power Pool, Inc.

Description: § 205(d) Rate Filing: Revisions to Add the Waiver of Base Plan Allocation Methodology to be effective 6/14/2021.

Filed Date: 4/14/21.

Accession Number: 20210414-5040.

Comments Due: 5 p.m. ET 5/5/21.

Docket Numbers: ER21-1677-000.

Applicants: PJM Interconnection, L.L.C.

Description: § 205(d) Rate Filing: Original WMPA, Service Agreement No. 6002; Queue No. AD2-073 to be effective 3/15/2021.

Filed Date: 4/14/21.

Accession Number: 20210414-5050.

Comments Due: 5 p.m. ET 5/5/21.

Docket Numbers: ER21-1678-000.

Applicants: Griffith Energy LLC.

Description: § 205(d) Rate Filing: Certificate of Concurrence for SRSG Participation Agreement to be effective 4/15/2021.

Filed Date: 4/14/21.

Accession Number: 20210414-5071.

Comments Due: 5 p.m. ET 5/5/21.

Docket Numbers: ER21-1679-000.

Applicants: Midcontinent Independent System Operator, Inc., Ameren Transmission Company of Illinois.

Description: § 205(d) Rate Filing: 2021-04-14_SA 3649 ATXI-Northeast Missouri Wind E&P (J1025) to be effective 4/12/2021.

Filed Date: 4/14/21.

Accession Number: 20210414-5084.

Comments Due: 5 p.m. ET 5/5/21.

Docket Numbers: ER21-1680-000.

Applicants: Virginia Electric and Power Company, PJM Interconnection, L.L.C.

Description: § 205(d) Rate Filing: Dominion submits Revisions to OATT, Att. H-16C re: OPEB to be effective 6/15/2021.

Filed Date: 4/14/21.

Accession Number: 20210414-5136.

Comments Due: 5 p.m. ET 5/5/21.

Docket Numbers: ER21-1681-000.

Applicants: Duke Energy Carolinas, LLC.

Description: § 205(d) Rate Filing: DEC—NCEMC Metering Service Agreement SA—569 to be effective 6/1/2021.

Filed Date: 4/14/21.

Accession Number: 20210414-5167.

Comments Due: 5 p.m. ET 5/5/21.

Docket Numbers: ER21-1682-000.

Applicants: Elora Solar, LLC.

Description: Baseline eTariff Filing: Elora Solar, LLC Application for MBR Authority to be effective 6/14/2021.

Filed Date: 4/14/21.

Accession Number: 20210414-5178.

Comments Due: 5 p.m. ET 5/5/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 14, 2021.
Nathaniel J. Davis, Sr.,
Deputy Secretary.

[FR Doc. 2021-08076 Filed 4-19-21; 8:45 am]

BILLING CODE 6717-01-P